DEPARTMENT OF HOMELAND SECURITY

U.S. Citizenship and Immigration Services

[CIS No. 2738-22; DHS Docket No. USCIS-2013-0006]

RIN 1615-ZB77

Extension and Redesignation of Somalia for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Somalia for Temporary Protected Status (TPS) for 18 months, beginning on March 18, 2023, and ending on September 17, 2024. This extension allows existing TPS beneficiaries to retain TPS through September 17, 2024, so long as they otherwise continue to meet the eligibility requirements for TPS. Existing TPS beneficiaries who wish to extend their status through September 17, 2024, must re-register during the 60-day re-registration period described in this notice. The Secretary is also redesignating Somalia for TPS. The redesignation of Somalia allows additional Somali nationals (and individuals having no nationality who last habitually resided in Somalia) who have been continuously residing in the United States since January 11, 2023, to apply for TPS for the first time during the initial registration period described under the redesignation information in this notice. In addition to demonstrating continuous residence in the United States since January 11, 2023, and meeting other eligibility criteria, applicants for TPS under this designation must demonstrate that they have been continuously physically present in the United States since March 18, 2023, the effective date of this redesignation of Somalia for TPS.

DATES:

Extension of Designation of Somalia for TPS: The 18-month designation of Somalia for TPS begins on March 18, 2023, and will remain in effect for 18 months, ending on September 17, 2024. The extension impacts existing beneficiaries of TPS.

Re-Registration: The 60-day re-registration period for existing beneficiaries runs from March 13, 2023 through May 12, 2023. (Note: It is important for re-registrants to timely re-register during the registration period and not to wait until their Employment Authorization Documents (EADs) expire, as delaying re-registration could result in gaps in their employment authorization documentation.)

Redesignation of Somalia for TPS: The 18-month redesignation of Somalia for TPS begins on March 18, 2023, and will remain in effect for 18 months, ending on September 17, 2024. The redesignation impacts potential first-time applicants and others who do not currently have TPS.

First-Time Registration: The initial registration period for new applicants under the Somalia TPS redesignation begins on March 13, 2023 and will remain in effect through September 17, 2024.

FOR FURTHER INFORMATION CONTACT: You may contact Rená Cutlip-Mason, Chief, Humanitarian Affairs Division, Office of Policy and Strategy, U.S. Citizenship and Immigration Services, Department of Homeland Security, by mail at 5900 Capital Gateway Drive, Camp Springs, MD 20746, or by phone at 800-375-5283.

For further information on TPS, including guidance on the registration process and additional information on eligibility, please visit the USCIS TPS web page at https://www.uscis.gov/tps. You can find specific information about Somalia's TPS designation by selecting “Somalia” from the menu on the left side of the TPS web page.

If you have additional questions about TPS, please visit uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at uscis.gov, or visit the USCIS Contact Center at https://www.uscis.gov/contactcenter.

Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS sets forth procedures necessary for nationals of Somalia (or individuals having no nationality who last habitually resided in Somalia) to (1) re-register for TPS and to apply for renewal of their EADs with USCIS or (2) submit an initial registration application under the redesignation and apply for an EAD.

Re-registration is limited to individuals who have previously registered for TPS under the prior designation of Somalia and whose applications have been granted. Failure to re-register properly within the 60-day re-registration period may result in the withdrawal of your TPS following appropriate procedures. See 8 CFR 244.14.

For individuals who have already been granted TPS under Somalia's designation, the 60-day re-registration period runs from March 13, 2023 through May 12, 2023. USCIS will issue new EADs with a September 17, 2024 expiration date to eligible Somali TPS beneficiaries who timely re-register and apply for EADs. Given the time frames involved with processing TPS re-registration applications, DHS recognizes that not all re-registrants may receive new EADs before their current EADs expire. Accordingly, through this Federal Register notice, DHS automatically extends the validity of certain EADs previously issued under the TPS designation of Somalia through March 17, 2024. Therefore, as proof of continued employment authorization through March 17, 2024, TPS beneficiaries can show their EADs that have the notation A12 or C19 under Category and a “Card Expires” date of March 17, 2023, or September 17, 2021. This notice explains how TPS beneficiaries and their employers may determine which EADs are automatically extended and how this affects the Form I-9, Employment Eligibility Verification, E-Verify, and USCIS Systematic Alien Verification for Entitlements (SAVE) processes.

Individuals who have a Somalia TPS application (Form I-821) and/or Application for Employment Authorization (Form I-765) that was still pending as of March 13, 2023 do not need to file either application again. If USCIS approves an individual's pending Form I-821, USCIS will grant the individual TPS through September 17, 2024. Similarly, if USCIS approves a pending TPS-related Form I-765, USCIS will issue the individual a new EAD that will be valid through the same date. There are currently approximately 430 beneficiaries under Somalia's TPS designation.

Under the redesignation, individuals who currently do not have TPS may submit an initial application during the initial registration period that runs from March 13, 2023 through the full length of the redesignation period, ending September 17, 2024.¹ In addition to demonstrating continuous residence in the United States since January 11, 2023, and meeting other eligibility criteria, initial applicants for TPS under this redesignation must demonstrate that they have been continuously physically present in the United States since March 18, 2023,² the effective date of this redesignation of Somalia, before USCIS may grant them TPS. DHS estimates that approximately 2,200 individuals may become newly eligible for TPS under the redesignation of Somalia.

¹ In general, individuals must be given an initial registration period of no less than 180 days to register for TPS, but the Secretary has discretion to provide for a longer registration period. See 8 U.S.C. 1254a(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has recently exercised his discretion to provide for TPS initial registration periods that coincide with the full period of a TPS country's initial designation or redesignation. See, e.g., 86 FR 41863 (Aug. 3, 2021) (providing 18-mos. registration period under new TPS designation of Haiti); 86 FR 41986 (Aug. 4, 2021) (“Extension of Initial Registration Periods for New Temporary Protected Status Applicants Under the Designations for Venezuela, Syria and Burma). For the same reasons, the Secretary is similarly exercising his discretion to provide applicants under this TPS designation of Somalia with an 18-month initial registration period.

² The “continuous physical presence date” (CPP) is the effective date of the most recent TPS designation of the country, which is either the publication date of the designation announcement in the Federal Register or such later date as the Secretary may establish. The “continuous residence date” (CR) is any date established by the Secretary when a country is designated (or sometimes redesignated) for TPS. See INA sec. 244(b)(2)(A), 8 U.S.C. 1254a(b)(2)(A) (effective date of designation); 244(c)(1)(A)(i-ii), 8 U.S.C. 1252a(c)(1)(A)(i-ii) (discussing CR and CPP date requirements).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA sec. 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Somalia designated for TPS?

Somalia was initially designated for TPS on September 16, 1991, on the basis of extraordinary and temporary conditions that prevented Somali nationals from safely returning. See Designation of Nationals of Somalia for Temporary Protected Status, 56 FR 46804 (Sept. 16, 1991). Somalia's designation for TPS has been consecutively extended since its initial designation. Additionally, Somalia was redesignated for TPS in 2001, again based on extraordinary and temporary conditions. See Extension and Redesignation of Somalia under Temporary Protected Status Program, 66 FR 46288 (Sept. 4, 2001). In 2012 Somalia was again redesignated for TPS on the basis of extraordinary and temporary conditions and under the additional basis of ongoing armed conflict. See Extension and Redesignation of Somalia for Temporary Protected Status, 77 FR 25723 (May 1, 2012). Most recently, DHS extended and redesignated Somalia for 18 months, from September 18, 2021, through March 17, 2023, again on the basis of ongoing armed conflict and extraordinary and temporary conditions. See Extension and Redesignation of Somalia for Temporary Protected Status, 86 FR 38744 (July 22, 2021).

What authority does the Secretary have to extend the designation of Somalia for TPS?

Section 244(b)(1) of the INA, 8 U.S.C. 1254a(b)(1), authorizes the Secretary, after consultation with appropriate agencies of the U.S. Government, to designate a foreign state (or part thereof) for TPS if the Secretary determines that certain country conditions exist.³ The decision to designate any foreign state (or part thereof) is a discretionary decision, and there is no judicial review of any determination with respect to the designation, termination, or extension of a designation. See INA sec. 244(b)(5)(A); 8 U.S.C. 1254a(b)(5)(A).⁴ The Secretary, in his or her discretion, may then grant TPS to eligible nationals of that foreign state (or individuals having no nationality who last habitually resided in the designated foreign state). See INA sec. 244(a)(1)(A), 8 U.S.C. 1254a(a)(1)(A).

³ INA sec. 244(b)(1) ascribes this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at sec. 244(b)(1).

⁴ This issue of judicial review is the subject of litigation. See, e.g., Ramos v. Wolf, 975 F.3d 872 (9th Cir. 2020), petition for en banc rehearing filed Nov. 30, 2020 (No. 18-16981); Saget v. Trump, 375 F. Supp. 3d 280 (E.D.N.Y. 2019).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Somalia for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present since the effective date of the most recent designation of the state”) (emphasis added).⁵

⁵ The extension and redesignation of TPS for Somalia is one of several instances in which the Secretary and, prior to the establishment of DHS, the Attorney General, have simultaneously extended a country's TPS designation and redesignated the country for TPS. See, e.g., Extension and Redesignation of Haiti for Temporary Protected Status, 76 FR 29000 (May 19, 2011); Extension and Re-designation of Sudan for Temporary Protected Status, 69 FR 60168 (Oct. 7, 2004); Extension of Designation and Re-designation of Liberia under Temporary Protected Status Program, 62 FR 16608 (Apr. 7, 1997).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Somalia shall be January 11, 2023. Initial applicants for TPS under this redesignation must also show they have been “continuously physically present” in the United States since March 18, 2023, which is the effective date of the Secretary's redesignation of Somalia. See INA sec. 244(c)(1)(A)(i), 8 U.S.C. 1254a(c)(1)(A)(i). For each initial TPS application filed under the redesignation, the final determination of whether the applicant has met the “continuous physical presence” requirement cannot be made until March 18, 2023, the effective date of this redesignation for Somalia. However, during the registration period and upon filing of the initial TPS application, USCIS will issue employment authorization documentation if the TPS applicant establishes prima facie eligibility for TPS. See 8 CFR 244.5(b).

Why is the Secretary extending the TPS designation for Somalia and simultaneously redesignating Somalia for TPS through September 17, 2024?

DHS has reviewed country conditions in Somalia. Based on the review, including input received from the Department of State (DOS), the Secretary has determined that an 18-month TPS extension is warranted because the ongoing armed conflict and extraordinary and temporary conditions supporting Somalia's TPS designation remain. The Secretary has further determined that redesignating Somalia for TPS under INA sec. 244(b)(3)(C), 8 U.S.C. 1254a(b)(3)(C) is warranted as is changing the “continuous residence” and “continuous physical presence” dates that applicants must meet to be eligible for TPS.

DHS conducted a thorough review of conditions in Somalia. Armed conflict involving state and non-state actors, in combination with interrelated climate, health, and food security challenges, continues to undermine the physical security and wellbeing of the Somali population. Compounding these challenges is the difficulty of providing critical humanitarian aid to affected communities. Internally displaced persons (IDPs) and other vulnerable populations have been particularly impacted.

Armed Conflict

The insurgent Islamist group al-Shabaab contests government control in Somalia and continues to conduct an armed insurgency against the Federal Government of Somalia (FGS), resulting in death, injury, and displacement of civilians.6 7 8

⁶ Report of the Secretary-General on children and armed conflict in Somalia [S/2022/397], UN Security Council, May 16, 2022, pg. 3-5, available at https://www.ecoi.net/en/file/local/2076558/N2235204.pdf.

⁷ National Counterterrorism Center, Counter Terrorism Guide, Terrorist Groups, Al-Shabaab, available at https://www.dni.gov/nctc/groups/al_shabaab.html (last visited Feb. 2, 2023)

⁸ Claire Klobucista, Jonathan Masters, and Mohammed Aly Sergie, Backgrounder Al-Shabaab, Council of Foreign Relations, Dec. 6, 2022, available at https://www.cfr.org/backgrounder/al-shabaab (last visited Feb. 1, 2023).

Al-Shabaab is well-organized and well-funded armed group with control over parts of Somalia.9 10 Al-Shabaab controls substantial territory in southern Somalia, planning and conducting terrorist attacks across the country, as well as attacks in northern Kenya and eastern Ethiopia.11 12 13 Al-Shabaab regularly conducts suicide bombings and targeted killings, as well as organized assaults against the Somali National Army (SNA), Somali Police Force (SPF) and the African Union Transition Mission in Somalia (ATMIS) (formerly the African Union Mission in Somalia (AMISOM)).¹⁴

⁹ Report of the Secretary-General on children and armed conflict in Somalia [S/2022/397], UN Security Council, May 16, 2022, pg. 3-5, available at https://www.ecoi.net/en/file/local/2076558/N2235204.pdf.

¹⁰ In 2008, the U.S. Government designated Al-Shabaab as a Foreign Terrorist Organization under Section 219 of the Immigration and Nationality Act (as amended) and as a Specially Designated Global Terrorist under Section 1(b) of Executive Order 13224 (as amended). Counter Terrorism Guide—Al-Shabaab, National Counterterrorism Center, available at https://www.dni.gov/nctc/groups/al_shabaab.html (last visited Jan. 19, 2023).

¹¹ Report of the Secretary-General on children and armed conflict in Somalia [S/2022/397], UN Security Council, May 16, 2022, pg. 3-5, available at https://www.ecoi.net/en/file/local/2076558/N2235204.pdf.

¹² Media Note, U.S. Dep't. of State, Rewards for Justice—Reward Offer for Information on Maalim Ayman and Other Responsible for 2020 Attack on Manda Bay Airfield in Kenya, Jan. 5, 2023, available at https://www.state.gov/rewards-for-justice-reward-offer-for-information-on-maalim-ayman-and-others-responsible-for-2020-attack-on-manda-bay-airfield-in-kenya/ (last visited Feb. 1, 2023);

¹³ Council on Foreign Relations, 2004-2022 Al-Shabaab in East Africa, available at https://www.cfr.org/timeline/al-shabaab-east-africa (last visited Feb. 2, 2023).

¹⁴ Report of the Secretary-General on children and armed conflict in Somalia [S/2022/397], UN Security Council, May 16, 2022, pg. 3-5, available at https://www.ecoi.net/en/file/local/2076558/N2235204.pdf.

Al-Shabaab's multiple illegal funding streams, including extortion of local businesses and individuals and facilitation of illicit trades, generate around $100 million per year.¹⁵ Al-Shabaab is regarded by the Department of Defense as “al-Qaeda's largest, wealthiest and most deadly affiliate,” nearly doubling its attacks between 2015 and 2021 and continuing to pose an acute threat.¹⁶ As recently as November 27, 2022, Al-Shabaab gunmen killed at least nine people in a Mogadishu hotel popular with government officials.¹⁷ One month earlier, Al-Shabaab claimed responsibility for two car bombs in Mogadishu that exploded at the education ministry next to a busy market intersection; President Hassan Sheikh Mohamud stated at the time that the bombings killed at least 100 people and wounded 300,¹⁸ representing Al-Shabaab's deadliest attack in five years.¹⁹ An Al-Shabaab attack on another hotel in Mogadishu in August 2022 killed 21 people and injured 117 others.²⁰

¹⁵ Treasury Designates al-Shabaab Financial Facilitators, U.S. Dep't. of the Treasury, Oct. 17, 2022, available at https://home.treasury.gov/news/press-releases/jy1028 (last visited Jan. 19, 2023).

¹⁶ An attack on a military base in Somalia shows al-Shabab's deadly power, Washington Post, July 17, 2022, available at https://www.washingtonpost.com/world/2022/07/17/somalia-al-shabab-us-troops/ (last visited Jan. 19, 2023).

¹⁷ Nine Civilians Killed in Militant Siege at a Mogadishu Hotel, New York Times, Nov. 28, 2022, available at https://www.nytimes.com/2022/11/27/world/africa/mogadishu-shabab-hotel.html (last visited Jan. 19, 2023).

¹⁸ Car bombs at busy Somalia market intersection killed at least 100, president says, Reuters, Oct. 30, 2022, available at https://www.reuters.com/world/africa/somalia-president-least-100-people-killed-car-bombs-2022-10-30/ (last visited Jan. 19, 2023).

¹⁹ Nine Civilians Killed in Militant Siege at a Mogadishu Hotel, New York Times, Nov. 28, 2022, available at https://www.nytimes.com/2022/11/27/world/africa/mogadishu-shabab-hotel.html (last visited Jan. 19, 2023).

²⁰ Somali PM Vows Accountability after Deadly Hotel Attack, VOA News, Aug. 22, 2022, available at https://www.voanews.com/a/somali-pm-vows-accountability-after-deadly-hotel-attack/6712021.html (last visited Jan. 19, 2023).

Somali security forces do not have the capacity to independently and consistently secure Somalia.²¹ When al-Shabaab regains control of towns that had been secured previously by pro-government forces, they have punished residents they suspected of cooperating with U.S. and pro-government forces by conducting public executions including beheadings, stonings, and other deadly forms of retaliation.²² Somali women and girls are disproportionately exposed to high levels of conflict-related sexual violence.23 24

²¹ Integrated Country Strategy: Somalia, U.S. Dep't. of State, Mar. 20, 2022, available at https://www.state.gov/wp-content/uploads/2022/04/ICS_AF_Somalia_Public.pdf.

²² EASO, Country of Origin Information Report, Somalia Targeted profiles, September 2021, available at https://www.ecoi.net/en/file/local/2060580/2021_09_EASO_COI_Report_Somalia_Targeted_profiles.pdf.

²³ UNSOM, Women in Somalia Live Through Pain of Displacement and Trauma of Conflict-Related Sexual Violence, June 19, 2022, available at https://unsom.unmissions.org/women-somalia-live-through-pain-displacement-and-trauma-conflict-related-sexual-violence (last visited Feb. 2, 2023).

²⁴ U.S. Dept. of State, 2021 Country Reports on Human Rights Practices: Somalia, Apr. 12, 2022, available at https://www.state.gov/reports/2021-country-reports-on-human-rights-practices/somalia/ (last visited Feb. 2, 2023).

Al-Shabaab often used suicide bombers, mortars, and IEDs to attack civilian and military targets throughout Somalia.²⁵ It also killed prominent peace activists, community leaders, clan elders, electoral delegates, and their family members for their roles in peace building, in addition to beheading persons accused of spying for and collaborating with Somali forces and affiliated militias.²⁶ ISIS-Somalia remains active, planning and carrying out suicide bombings, armed assaults, assassinations, and small arms attacks in the Federal Member State (FMS) of Puntland and in the capital, Mogadishu.²⁷

²⁵ Chiara Torelli, Action on Armed Violence, Hiiran: 30 killed in three Al Shabaab suicide attacks, 14 Jan, Jan. 17, 2023, available at https://aoav.org.uk/2023/hiiran-30-killed-in-three-al-shabaab-suicide-attacks-14-jan/ (last visited Feb. 2, 2023).

²⁶ 2021 Country Reports on Human Rights Practices: Somalia, U.S. Dep't. of State, Apr. 12, 2022, available at https://www.state.gov/reports/2021-country-reports-on-human-rights-practices/somalia/ (last visited Feb. 2, 2023).

²⁷ Id.

Extraordinary and Temporary Conditions

Somalia faces complex climate, health, food security, and humanitarian challenges. As of December 2022, more than 7 million Somalis are in need of humanitarian assistance.²⁸ Compounding this challenge, armed groups deliberately restrict the passage of relief supplies and access by humanitarian organizations through the use of checkpoints, roadblocks, extortion, carjacking, and bureaucratic obstacles.²⁹

²⁸ Somalia Key Figures, United Nations Office for the Coordination of Humanitarian Affairs (UNOCHA), available at https://m.reliefweb.int/country/216/som?figures-display=all (last visited Jan. 19, 2023).

²⁹ 2021 Country Reports on Human Rights Practices: Somalia, U.S. Dep't. of State, Apr. 12, 2022, available at https://www.state.gov/reports/2021-country-reports-on-human-rights-practices/somalia/ (last visited Jan. 19, 2023).

Approximately 2.9 million people are internally displaced in Somalia “due to conflict, drought, lack of livelihood opportunities, and forced evictions from their settlements, mostly by landlords.” 30 31 Such IDPs face challenging living conditions in crowded, informal settlements with limited access to health services, water, shelter, and food.³² The majority of IDPs are older persons, women, and children.³³

³⁰ Somalia Humanitarian Fund Annual Report 2021, UNOCHA, June 30, 2022, pg. 8, available at https://reliefweb.int/report/somalia/somalia-humanitarian-fund-annual-report-2021 (last visited Jan. 19, 2023).

³¹ Internally displaced persons (IDPs) are generally most affected by forced evictions in Mogadishu, Somalia's capital. Generally, these IDPs—fleeing from insecurity and natural disasters in rural areas—establish temporary settlements in abandoned areas in Mogadishu, where they pay rent to “gatekeepers,” the de facto managers of these informal settlements. These evictions are linked to rising land and property values, and clan power dynamics among one of the most powerful clans—the Hawiye clans in the Mogadishu area. The combination of these factors has led to forced evictions of IDPs, usually with force and without any prior notice. UnSettlement: Urban displacement in the 21st century, Norwegian Refugee Council/Internal Displacement Monitoring Centre, Nov. 2018, pg. 5-7, available at https://www.refworld.org/docid/5c17b00f4.html (last visited Jan. 19, 2023).

³² Four Challenges Facing Displaced Persons in Somalia, International Organization for Migration, Sept. 13, 2022, available at https://reliefweb.int/report/somalia/four-challenges-facing-displaced-persons-somalia (last visited Jan. 19, 2023).

³³ Worsening drought escalated forced evictions in Banadir region, Norwegian Refugee Council, Mar. 14, 2022, pg. 1, available at https://reliefweb.int/report/somalia/nrc-somalia-brief-worsening-drought-escalates-forced-evictions-banadir-region-somalia (last visited Sept. 13, 2022).

Vulnerable populations face particular protection challenges. Gender-based violence is underreported but widespread,³⁴ with IDPs and members of marginalized clans and groups particularly at risk.³⁵ Al-Shabaab continues to commit gender-based violence, including through child, early, and forced marriages.³⁶ Children are often subject to recruitment by armed groups.³⁷

³⁴ Somalia: Protection Analysis Update (Feb. 2022), Global Protection Cluster/UN High Commissioner for Refugees, Feb. 9, 2022, pg. 4, available at https://reliefweb.int/report/somalia/somalia-protection-analysis-update-february-2022 (last visited Sept. 7, 2022).

³⁵ 2021 Country Reports on Human Rights Practices: Somalia, U.S. Dep't. of State, Apr. 12, 2022, available at https://www.state.gov/reports/2021-country-reports-on-human-rights-practices/somalia/ (last visited Jan. 19, 2023).

³⁶ Id.

³⁷ Report of the Secretary-General on children and armed conflict in Somalia [S/2022/397], UN Security Council, May 16, 2022, pg. 5, available at https://www.ecoi.net/en/file/local/2076558/N2235204.pdf

Somalia's overall health system, including its disease surveillance system, “remains fragmented, under-resourced, and ill-equipped to provide lifesaving and preventative services.” ³⁸ It is estimated that at least 6.5 million people need essential healthcare and nutrition services, with malnutrition, disease outbreaks, and conflict continuing to drive increased illness and excess deaths.³⁹ It is estimated that only 19% of districts have adequate healthcare facilities.⁴⁰

³⁸ 2022 Somalia Humanitarian Needs Overview, UNOCHA, Oct. 24, 2021, pg. 25, available at https://reliefweb.int/report/somalia/2022-somalia-humanitarian-needs-overview (last visited Jan. 19, 2023).

³⁹ Somalia Complex Crisis—Overview, ACAPS, last updated on Sept. 9, 2022, available at https://www.acaps.org/country/somalia/crisis/complex-crisis (last visited Jan. 19, 2023).

⁴⁰ Id.

Climate change has intensified competition over declining resources, which in turn exacerbates clan divisions and inter-clan violence.⁴¹ Violence between clan militias has led to civilian casualties, destruction of civilian property, displacement, and obstruction of humanitarian assistance.⁴² Somalia is beset by “a culture of impunity due to clan protection of perpetrators [of abuses] and weak government capacity to hold the guilty to account.” ⁴³

⁴¹ 2022 Somalia Humanitarian Needs Overview, UNOCHA, Oct. 24, 2021, pg. 6, available at https://reliefweb.int/report/somalia/2022-somalia-humanitarian-needs-overview (last visited Sept. 13, 2022).

⁴² Letter dated 5 October 2021 from the Chair of the Security Council Committee pursuant to resolution 751 (1992) concerning Somalia addressed to the President of the Security Council, UN Security Council, Oct. 6, 2021, pg. 13, available at https://documents-dds-ny.un.org/doc/UNDOC/GEN/N21/249/27/pdf/N2124927.pdf?OpenElement.

⁴³ 2021 Country Reports on Human Rights Practices: Somalia, U.S. Dep't. of State, Apr. 12, 2022, available at https://www.state.gov/reports/2021-country-reports-on-human-rights-practices/somalia/ (last visited Jan. 19, 2023).

Alongside conflict and violence, drought and flooding have been primary drivers of displacement, food insecurity, and malnutrition.⁴⁴ In March 2022 the UN assessed:

⁴⁴ Somalia: Protection Analysis Update, Global Protection Cluster, UNHCR, Feb. 9, 2022, pg. 4, available at https://reliefweb.int/report/somalia/somalia-protection-analysis-update-february-2022 (last visited Sept. 12, 2022).

Since December 2021, extreme drought conditions have affected about 4.9 million people, with about 719,000 displaced from their homes in search of water, food, and pasture as of March. The emergency is decimating the lives of people whose coping capacities were already eroded by decades of conflict, food shortages, climatic shocks, disease outbreaks, desert locust infestations and the COVID-19 pandemic.⁴⁵

⁴⁵ Somalia Humanitarian Bulletin, March 2022, UNOCHA, Apr. 12, 2022, pg. 2, available at https://reliefweb.int/report/somalia/somalia-humanitarian-bulletin-march-2022 (last visited Sept. 13, 2022).

As of September 2022, more than 80% of the country faced severe to extreme drought conditions.⁴⁶ As of December 2022, Somalia has experienced five consecutive seasons of poor rainfall and is likely to experience a sixth such season from March to June 2023.⁴⁷

⁴⁶ Somalia Complex Crisis—Overview, ACAPS, last updated on Sept. 9, 2022, available at https://www.acaps.org/country/somalia/crisis/complex-crisis (last visited Jan. 19, 2023).

⁴⁷ Nearly 8.3 million people across Somalia face Crisis (IPC Phase 3) or worse acute food insecurity outcomes, Famine Early Warning System Network (FEWS NET)/Food Security and Nutrition Analysis Unit (FSNAU)/Integrated Food Security Phase Classification (IPC), Dec. 13, 2022, pg. 1, available at https://reliefweb.int/report/somalia/nearly-83-million-people-across-somalia-face-crisis-ipc-phase-3-or-worse-acute-food-insecurity-outcomes (last visited Jan. 19, 2023).

Malnutrition in Somalia is driven by food insecurity, poor child feeding practices, diseases, and limited access to clean water and sanitation.⁴⁸ Nearly 1.8 million children under the age of five are acutely malnourished.⁴⁹ Moreover, conflict and disease outbreaks have exacerbated a spike in food prices.⁵⁰

⁴⁸ WFP Somalia Country Brief, May 2022, World Food Programme, May 31, 2022, pg. 1, available at https://reliefweb.int/report/somalia/wfp-somalia-country-brief-may-2022 (last visited Sept. 14, 2022).

⁴⁹ Somalia Key Figures, UNOCHA, available at https://m.reliefweb.int/country/216/som?figures-display=all (last visited Jan. 19, 2023). Estimate as of Sept. 12, 2022.

⁵⁰ Nearly 8.3 million people across Somalia face Crisis (IPC Phase 3) or worse acute food insecurity outcomes, FEWS NET/FSNAU/IPC, Dec. 13, 2022, pg. 1, available at https://reliefweb.int/report/somalia/nearly-83-million-people-across-somalia-face-crisis-ipc-phase-3-or-worse-acute-food-insecurity-outcomes (last visited Jan. 19, 2023).

The UN reports that 7.1 million people, accounting for 45 percent of the country, face at least “crisis” levels of food security, of which 2.1 million are experiencing even more serious “emergency” shortages that signify acute malnutrition and rising levels of death.⁵¹ Approximately 213,000 people are at the “catastrophe” ⁵² level, representing a 160 percent increase between April and June 2022, and characterized by an extreme lack of food that can result in starvation and death.⁵³ The situation may further deteriorate if an anticipated decrease in humanitarian assistance due to insufficient funding for Somalia after March 2023 comes to pass, with the UN and its partners predicting that the number of Somalis facing “crisis” levels of food security—or worse—would grow to around 8.3 million between April and June 2023, of which 2.7 million would face “emergency” levels and at least 727,000 would face “catastrophe.” ⁵⁴

⁵¹ Horn of Africa braces for `explosion of child deaths' as hunger crisis deepens, UN News, June 7, 2022, available at https://news.un.org/en/story/2022/06/1119862 (last visited Jan. 19, 2023).

⁵² This designation is also referred to as “Famine” or “IPC Phase 5.” FEWS NET/FSNAU/IPC, supra note 37.

⁵³ Horn of Africa braces for `explosion of child deaths' as hunger crisis deepens, UN News, June 7, 2022, available at https://news.un.org/en/story/2022/06/1119862 (last visited Jan. 19, 2023).

⁵⁴ Nearly 8.3 million people across Somalia face Crisis (IPC Phase 3) or worse acute food insecurity outcomes, FEWS NET/FSNAU/IPC, Dec. 13, 2022, pg. 1, available at https://reliefweb.int/report/somalia/nearly-83-million-people-across-somalia-face-crisis-ipc-phase-3-or-worse-acute-food-insecurity-outcomes (last visited Jan. 19, 2023).

Based upon this review and after consultation with appropriate U.S. Government agencies, the Secretary has determined that:

• The conditions supporting Somalia's designation for TPS continue to be met. See INA sec. 244(b)(3)(A) and (C), 8 U.S.C. 1254a(b)(3)(A) and (C).

• There continues to be an ongoing armed conflict in Somalia and, due to such conflict, requiring the return to Somalia of Somali nationals (or individuals having no nationality who last habitually resided in Somalia) would pose a serious threat to their personal safety. See INA sec. 244(b)(1)(A), 8 U.S.C. 1254a(b)(1)(A).

• There continue to be extraordinary and temporary conditions in Somalia that prevent Somali nationals (or individuals having no nationality who last habitually resided in Somalia) from returning to Somalia in safety, and it is not contrary to the national interest of the United States to permit Somali TPS beneficiaries to remain in the United States temporarily. See INA sec. 244(b)(1)(C), 8 U.S.C. 1254a(b)(1)(C).

• The designation of Somalia for TPS should be extended for an 18-month period, beginning on March 18, 2023 and ending on September 17, 2024. See INA sec. 244(b)(3)(C), 8 U.S.C. 1254a(b)(3)(C).

• Due to the conditions described above, Somalia should be simultaneously extended and redesignated for TPS beginning on March 18, 2023 and ending on September 17, 2024. See INA sec. 244(b)(1)(A) and (C) and (b)(2), 8 U.S.C. 1254a(b)(1)(A) and (C) and (b)(2).

• For the redesignation, the Secretary has determined that TPS applicants must demonstrate that they have continuously resided in the United States since January 11, 2023.

• TPS applicants must demonstrate that they have been continuously physically present in the United States since March 18, 2023, the effective date of the redesignation of Somalia for TPS.

• There are approximately 430 current Somalia TPS beneficiaries who are expected to be eligible to re-register for TPS under the extension.

• It is estimated that approximately 2,200 additional individuals may be eligible for TPS under the redesignation of Somalia. This population includes Somali nationals in the United States in nonimmigrant status or without lawful immigration status.

Notice of the Designation of Somalia for TPS

By the authority vested in me as Secretary under INA sec. 244, 8 U.S.C. 1254a, I have determined, after consultation with the appropriate U.S. Government agencies, the statutory conditions supporting Somalia's designation for TPS on the basis of ongoing armed conflict and extraordinary and temporary conditions are met. See INA sec. 244(b)(1)(A), 8 U.S.C. 1254a(b)(1)(A) and INA sec. 244(b)(1)(C), 8 U.S.C. 1254a(b)(1)(C). I estimate up to approximately 2,630 individuals may be eligible for TPS under the designation of Somalia. On the basis of this determination, I am simultaneously extending the existing designation of Somalia for TPS for 18 months, beginning on March 18, 2023, and ending on September 17, 2024, and redesignating Somalia for TPS for the same 18-month period. See INA sec. 244(b)(1)(A), (b)(1)(C) and (b)(2); 8 U.S.C. 1254a(b)(1)(A), (b)(1)(C), and (b)(2).

Alejandro N. Mayorkas,
Secretary, U.S. Department of Homeland Security.

Eligibility and Employment Authorization for TPS

Required Application Forms and Application Fees To Register for TPS

To register for TPS based on the designation of Somalia, you must submit a Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

TPS beneficiaries are eligible for an EAD, which proves their authorization to work in the United States. You are not required to submit Form I-765, Application for Employment Authorization, or have an EAD to be granted TPS, but see below for more information if you want an EAD to use as proof that you can work in the United States.

Individuals who have a Somalia TPS application (Form I-821) that was still pending as of March 13, 2023 do not need to file the application again. If USCIS approves an individual's Form I-821, USCIS will grant the individual TPS through September 17, 2024.

For more information on the application forms and fees for TPS, please visit the USCIS TPS web page at https://www.uscis.gov/tps. Fees for the Form I-821, the Form I-765, and biometric services are also described in 8 CFR 103.7(b)(1) (Oct. 1, 2020).

How can TPS beneficiaries obtain an Employment Authorization Document (EAD)?

Everyone must provide their employer with documentation showing that they have the legal right to work in the United States. TPS beneficiaries are eligible to obtain an EAD, which proves their legal right to work. Those who want to obtain an EAD must file a Form I-765 and pay the Form I-765 fee (or request a fee waiver, which you may submit on Form I-912, Request for Fee Waiver). TPS applicants may file this form along with their TPS application, or at a later date, provided their TPS application is still pending or has been approved. Beneficiaries with a Somalia TPS-related Form I-765 that was still pending as of March 13, 2023 do not need to file the application again. If USCIS approves a pending TPS-related Form I-765, USCIS will issue the individual a new EAD that will be valid through September 17, 2024.

Refiling an Initial TPS Registration Application After Receiving a Denial of a Fee Waiver Request

The fee waiver denial notice will contain specific instructions about resubmitting your application.

Filing Information

USCIS offers the option to applicants for TPS under Somalia's designation to file Form I-821 and related requests for EADs online or by mail. When filing a TPS application, applicants can also request an EAD by submitting a completed Form I-765 with their Form I-821.

Online filing: Form I-821 and I-765 are available for concurrent filing online.⁵⁵ To file these forms online, you must first create a USCIS online account.⁵⁶ However, if you are requesting a fee waiver, you cannot submit the applications online. You will need to file paper versions of the fee waiver request and the form for which you are requesting the fee waiver.

⁵⁵ Find information about online filing at “Forms Available to File Online,” https://www.uscis.gov/file-online/forms-available-to-file-online.

⁵⁶ https://myaccount.uscis.gov/users/sign_up.

Mail filing: Mail your application for TPS to the proper address in Table 1.

Table 1—Mailing Addresses

Mail your completed Form I-821, Application for Temporary Protected Status and Form I-765, Application for Employment Authorization, Form I-912, Request for Fee Waiver, if applicable, and supporting documentation to the proper address in Table 1.

Table 1—Mailing Addresses
If . . . | Mail to . . .
You are using the U.S. Postal Service (USPS) | USCIS, Attn: TPS Somalia, P.O. Box 6943, Chicago, IL 60680-6943.
You are using FedEx, UPS, or DHL | USCIS, Attn: TPS Somalia (Box 6943), 131 S Dearborn St., 3rd Floor, Chicago, IL 60603-5517.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “Somalia.”

Travel

TPS beneficiaries may also apply for and be granted travel authorization as a matter of discretion. You must file for travel authorization if you wish to travel outside of the United States and be authorized to re-enter. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): | USCIS, Attn: I-131 TPS, P.O. Box 660167, Dallas, TX 75266-0867.
You must include a copy of the receipt notice (Form I-797 or I-797C) showing we accepted or approved your Form I-821
Filing Form I-131 based on a pending or approved Form I-821, and you are using FedEx, UPS, or DHL: | USCIS, Attn: I-131 TPS, 2501 S State Hwy. 121 Business, Ste. 400, Lewisville, TX 75067.
You must include a copy of the receipt notice (Form I-797 or I-797C) showing we accepted or approved your Form I-821

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. If necessary, you may be required to visit an Application Support Center to have your biometrics captured. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through March 17, 2024, through this Federal Register notice?

Yes. Regardless of your country of birth, provided that you currently have a Somalia TPS-based EAD that has the notation A12 or C19 under Category and a “Card Expires” date of March 17, 2023, or September 17, 2021, this Federal Register notice automatically extends your EAD through March 17, 2024. Although this Federal Register notice automatically extends your EAD through March 17, 2024, you must re-register timely for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for further information. If your EAD states A12 or C19 under Category and has a “Card Expires” date of March 17, 2023, or September 17, 2021, it has been extended automatically by virtue of this Federal Register notice and you may choose to present your EAD to your employer as proof of identity and employment eligibility for Form I-9 through March 17, 2024, unless your TPS has been withdrawn or your request for TPS has been denied. Your country of birth notated on the EAD does not have to reflect the TPS designated country of Somalia for you to be eligible for this extension.

What documentation may I present to my employer for Form I-9 if I am already employed but my current TPS-related EAD is set to expire?

Even though we have automatically extended your EAD, your employer is required by law to ask you about your continued employment authorization. Your employer may need to re-inspect your automatically extended EAD to check the “Card Expires” date and Category code if your employer did not keep a copy of your EAD when you initially presented it. Once your employer has reviewed the Card Expiration date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through March 17, 2024, but you are not required to do so. The last day of the automatic EAD extension is March 17, 2024. Before you start work on March 18, 2024, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, regardless of whether you have an EAD or work authorization based on another immigration status. If you want to obtain a new TPS-based EAD valid through September 17, 2024, then you must file Form I-765, Application for Employment Authorization, and pay the associated fee (unless USCIS grants your fee waiver request).

Can my employer require that I provide any other documentation such as evidence of my status or proof of my Somali citizenship or a Form I-797 showing that I registered for TPS for Form I-9 completion?

No. When completing Form I-9, employers must accept any documentation you choose to present from the Form I-9 Lists of Acceptable Documents that reasonably appears to be genuine and that relates to you, or an acceptable List A, List B, or List C receipt. Employers may not request proof of Somali citizenship or proof of registration for TPS when completing Form I-9 for new hires or reverifying the employment authorization of current employees. If you present an EAD that USCIS has automatically extended, employers should accept it as a valid List A document so long as the EAD reasonably appears to be genuine and to relate to you. Refer to the “Note to Employees” section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before March 18, 2024:

1. For Section 1, you should:

a. Check “An alien authorized to work until” and enter March 17, 2024, as the “expiration date”; and

b. Enter your USCIS number or A-Number where indicated. (Your EAD or other document from DHS will have your USCIS number or A-Number printed on it; the USCIS number is the same as your A-Number without the A prefix.)

2. For Section 2, employers should:

a. Determine if the EAD is auto-extended by ensuring it is in category A12 or C19 and has a “Card Expires” date of March 17, 2023, or September 17, 2021.

b. Write in the document title;

c. Enter the issuing authority;

d. Provide the document number; and

e. Write March 17, 2024, as the expiration date.

Before the start of work on March 18, 2024, employers must reverify the employee's employment authorization on Form I-9.

What updates should my current employer make to Form I-9 if my EAD has been automatically extended?

If you presented a TPS-related EAD that was valid when you first started your job and USCIS has now automatically extended your EAD, your employer may need to re-inspect your current EAD if they do not have a copy of the EAD on file. Your employer should determine if your EAD is automatically extended by ensuring that it contains Category A12 or C19 and has a “Card Expires” date of March 17, 2023, or September 17, 2021. Your employer may not rely on the country of birth listed on the card to determine whether you are eligible for this extension.

If your employer determines that USCIS has automatically extended your EAD, your employer should update Section 2 of your previously completed Form I-9 as follows:

1. Write EAD EXT and March 17, 2024, as the last day of the automatic extension in the Additional Information field; and

2. Initial and date the correction.

Note: This is not considered a reverification. Employers do not reverify the employee until either the automatic extension has ended, or the employee presents a new document to show continued employment authorization, whichever is sooner. By March 18, 2024, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter March 17, 2024, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on March 18, 2024, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of Tentative Nonconfirmation (mismatch) must promptly inform employees of the mismatch and give such employees an opportunity to take action to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/IER and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A12 or C19, even if your country of birth noted on the EAD does not reflect the TPS designated country of Somalia;

• Your Form I-94, Arrival/Departure Record;

• Your Form I-797, Notice of Action, reflecting approval of your Form I-765; or

• Form I-797 or Form I-797C, Notice of Action, reflecting approval or receipt of a past or current Form I-821.

Check with the government agency requesting documentation regarding which document(s) the agency will accept. Some state and local government agencies use the SAVE program to confirm the current immigration status of applicants for public benefits.

While SAVE can verify that an individual has TPS, each agency's procedures govern whether they will accept an unexpired EAD, Form I-797, Form I-797C, or Form I-94, Arrival/Departure Record. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, https://www.uscis.gov/save, has detailed information on how to make corrections or update your immigration record, make an appointment, or submit a written request to correct records.

[FR Doc. 2023-04735 Filed 3-7-23; 8:45 am]

BILLING CODE 9111-97-P